DEPARTMENT OF THE INTERIOR

Fish and Wildlife Service

Draft Environmental Assessment/Habitat Conservation Plan; Issuance of a Section 10(a)(1)(B) Permit for Incidental Take of the Golden-Cheeked Warbler in Williamson County, TX (CA 1100, LTD.)

AGENCY: Fish and Wildlife Service, Interior.

ACTION: Notice of availability; receipt of application.

SUMMARY: CA 1100, LTD. (Applicant) has applied to the U.S. Fish and Wildlife Service (Service) for an incidental take permit (TE-139553-0) pursuant to Section 10(a)(1)(B) of the Endangered Species Act (Act) of 1973, as amended. The requested permit, which is for a period of 30 years, would authorize incidental take of the golden-cheeked warbler (Dendroica chrysoparia). The proposed take would occur as a result of the construction and occupation of a residential development on 176 acres of the Shadow Canyon property, Williamson County, Texas. We invite public comment.

DATES: To ensure consideration, written comments must be received on or before May 4, 2007.

ADDRESSES: Persons wishing to review the application may obtain a copy by writing to the Regional Director, U.S. Fish and Wildlife Service, P.O. Box 1306, Room 4102, Albuquerque, New Mexico 87103. Persons wishing to review the draft Environmental Assessment/Habitat Conservation Plan (EA/HCP) may obtain a copy by contacting William Amy, U.S. Fish and Wildlife Service, 10711 Burnet Road, Suite 200, Austin, Texas 78758 (512-490-0057). Documents will be available for public inspection by written request, by appointment only, during normal business hours (8 a.m. to 4:30 p.m.) at the Service's Austin office. Written data or comments concerning the application and draft EA/HCP should be submitted to the Supervisor, U.S. Fish and Wildlife Service, 10711 Burnet Road, Suite 200, Austin, Texas 78758. Please refer to permit number TE-139553-0 when submitting comments. All comments received, including names and addresses, will become a part of the official administrative record and may be made available to the public.

FOR FURTHER INFORMATION CONTACT: William Amy at U.S. Fish and Wildlife Service Austin office, 10711 Burnet Road, Suite 200, Austin, Texas 78758 (512-490-0057) or by e-mail, William_Amy@fws.gov.

SUPPLEMENTARY INFORMATION: The Applicant has applied to the Service for a Section 10(a)(1)(B) incidental take permit for a period of 30 years in order to authorize incidental take of the golden-cheeked warbler.

Section 9 of the Act prohibits the “taking” of endangered species such as the golden-cheeked warbler. However, the Service, under limited circumstances, may issue permits to take endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

Applicant: The Applicant plans to construct a residential and commercial development on the 176-acre property located on Shadow Canyon property, Williamson County, Texas. This action will adversely affect 70.1 acres of oak-juniper woodland resulting in take of three pairs of golden-cheeked warblers. The Applicant proposes to mitigate for incidental take of the golden-cheeked warbler by purchasing 97 mitigation credits from a conservation bank approved by the Service to preserve 97 acres of golden-cheeked warbler habitat in perpetuity within the acquisition area of the Balcones Canyonlands National Wildlife Refuge.

Christopher T. Jones,
Acting Regional Director, Region 2, Albuquerque, New Mexico.

[FR Doc. E7-3766 Filed 3-2-07; 8:45 am]

BILLING CODE 4510-55-P